FEDERAL COMMUNICATIONS COMMISSION

47 CFR Part 54

[WC Docket Nos. 13-184 and 10-90; FCC 14-189]

Modernizing the E-rate Program for Schools and Libraries

AGENCY: Federal Communications Commission.

ACTION: Final rule; announcement of effective date.

SUMMARY: In this document, the Commission announces that the Office of Management and Budget (OMB) has approved, for a period of three years, the information collection associated with the Commission's Second E-rate Modernization Report and Order and Order on Reconsideration (Second E-rate Modernization Order). This document is consistent with the (Second E-rate Modernization Order, which stated that the Commission would publish a document in the Federal Register announcing the effective date of those rules.

DATES: 47 CFR 54.504(a)(1)(iii), published at 80 FR 5961, February 4, 2015, is effective December 24, 2015.

FOR FURTHER INFORMATION CONTACT: James Bachtell, Wireline Competition Bureau at (202) 418-7400 or TTY (202) 418-0484.

SUPPLEMENTARY INFORMATION: This document announces that, on December 2, 2015, OMB approved, for a period of three years, the new information collection requirements contained in the Commission's Second E-rate Modernization Order, FCC 14-189, published at 80 FR 5961, February 4, 2015. The OMB Control Number is 3060-0806. The Commission publishes this document as an announcement of the effective date of 47 CFR 54.504(a)(1)(iii).

If you have any comments on the burden estimates listed below, or how the Commission can improve the collections and reduce any burdens caused thereby, please contact Nicole Ongele, Federal Communications Commission, Room 1-A620, 445 12th Street SW., Washington, DC 20554. Please include the OMB Control Number, 3060-0806, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on December 2, 2015, for the information collection requirements contained in the Commission's rule at 47 CFR 54.504(a)(1)(iii).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0806.

The foregoing document is required by the Paperwork Reduction Act of 1995, Pub. L. 104-13, October 1, 1995, and 44 U.S.C. 3507.

The total annual reporting burdens and costs for the respondents are as follows:

OMB Control Number: 3060-0806.

OMB Approval Date: December 2, 2015.

OMB Expiration Date: December 31, 2018.

Title: Universal Service—Schools and Libraries Universal Service Program, FCC Forms 470 and 471.

Form Numbers: FCC Forms 470 and 471.

Respondents: State, local or tribal government public institutions, and other not-for-profit institutions.

Number of Respondents and Responses: 52,700 respondents, 82,090 responses.

Estimated Time per Response: 3.5 hours for FCC Form 470 (3 hours for response; 0.5 hours for recordkeeping; 4.5 hours for FCC Form 471 (4 hours for response; 0.5 hours for recordkeeping).

Frequency of Response: On occasion, annual reporting, and recordkeeping requirements.

Obligation to Respond: Required to obtain or retain benefits. Statutory authority for this information collection is contained in 47 U.S.C. 151-154, 201-205, 218-220, 254, 303(r), 403, and 405.

Total Annual Burden: 334,405 hours.

Total Annual Cost: No cost.

Privacy Act Impact Assessment: No impact(s).

Nature and Extent of Confidentiality: There is no assurance of confidentiality provided to respondents concerning this information collection. However, respondents may request materials or information submitted to the Commission or to the Administrator be withheld from public inspection under 47 CFR 0.459 of the Commission's rules.

Needs and Uses: The Commission seeks to revise OMB 3060-0806 to conform this information collection to the program changes set forth in the Second Report and Order and Order on Reconsideration (Second E-Rate Modernization Order) (WC Docket No. 13-184, WC Docket No. 10-90, FCC 14-189; 80 FR 5961, February 4, 2015). Collection of the information on FCC Forms 470 and 471 is necessary so that the Commission and the Universal Service Administrative Company (USAC) have sufficient information to determine if entities are eligible for funding pursuant to the schools and libraries support mechanism (the E-rate program), to determine if entities are complying with the Commission's rules, and to prevent waste, fraud, and abuse. In addition, the information is necessary for the Commission to evaluate the extent to which the E-rate program is meeting the statutory objectives specified in section 254(h) of the 1996 Act, and the Commission's own performance goals established in the Report and Order and Further Notice of Proposed Rulemaking (E-rate Modernization Order), 79 FR 49160, August 19, 2014 and Second E-rate Modernization Order, 80 FR 5961, February 4, 2015. This information collection is being revised to modify FCC Form 471 pursuant to program and rule changes in the Second E-rate Modernization Order and to accommodate USAC's new online portal as well as the requirement that all FCC Forms 471 be electronically filed.

Federal Communications Commission.
Marlene H. Dortch,
Secretary.

[FR Doc. 2015-32321 Filed 12-23-15; 8:45 am]

BILLING CODE 6712-01-P